SURFACE TRANSPORTATION BOARD

[Docket No. FD 36235]

Great Northwest Railroad, L.L.C.—Amendment of Trackage Rights Exemption Containing Interchange Commitment—Union Pacific Railroad Company

Great Northwest Railroad, L.L.C. (GRNW) has filed a verified notice of exemption under 49 CFR 1180.2(d)(7) to amend its existing overhead trackage rights over a rail line owned by Union Pacific Railroad Company (UP). GRNW states that the existing trackage rights extend over UP's line of railroad between milepost 10.46 at Riparia, Wash., and milepost 267.10 at Ayer, Wash. (the Line). The total distance is approximately 15.10 miles.¹

¹ GRNW states that it acquired incidental overhead trackage rights on the Line by assignment from Camas Prairie RailNet, Inc. Great N.W. R.R.—Acquis. & Operation Exemption—Camas Prairie RailNet, Inc., FD 34474 (STB served Mar. 19, 2004).

GRNW states that the amended trackage rights agreement between it and UP (the Amendment) will permit GRNW to provide local service to a new facility locating on the Line.

According to GRNW, the Amendment includes an interchange commitment. As required under 49 CFR 1180.4(g)(4), GRNW has provided additional information regarding the interchange commitment.

The transaction may be consummated on or after January 2, 2019, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions to stay must be filed by December 26, 2018 (at least seven days before the exemption becomes effective).

An original and 10 copies of all pleadings, referring to Docket No. FD 36235, must be filed with the Surface Transportation Board, 395 E Street SW, Washington, DC 20423-0001. In addition, a copy of each pleading must be served on Karl Morell, Karl Morell & Associates, 440 1st Street NW, Suite 440, Washington, DC 20001.

Board decisions and notices are available on our website at www.stb.gov.

Decided: December 13, 2018.
By the Board, Scott M. Zimmerman, Acting Director, Office of Proceedings.
Raina Contee,
Clearance Clerk.

[FR Doc. 2018-27468 Filed 12-18-18; 8:45 am]

BILLING CODE 4915-01-P